DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at 76 FR 62420-62421 dated October 7, 2011).

This notice reflects organizational changes in the Health Resources and Services Administration. Specifically, this notice realigns the Office of Women's Health (RAW) to the Immediate Office of the Administrator (RA), in accordance with Section 3509(f) of the Patient Protection and Affordable Care Act (ACA), Public Law 111-148, which requires the Secretary to establish an Office of Women's Health within the Office of the Administrator of HRSA.

Chapter RA—Office of the Administrator

Section RA-10, Organization

Delete in its entirety and replace with the following:

The Office of the Administrator (RA) is headed by the Administrator, Health Resources and Services Administration, who reports directly to the Secretary. The OA includes the following components:

(1) Immediate Office of the Administrator (RA);

(2) Office of Equal Opportunity, Civil Rights, and Diversity Management (RA2);

(3) Office of Planning, Analysis, and Evaluation (RA5);

(4) Office of Communications (RA6);

(5) Office of Special Health Affairs (RA1);

(6) Office of Legislation (RAE); and

(7) Office of Women's Health (RAW).

Section RA-20, Functions

Update the functional statement for the Immediate Office of the Administrator (RA); and move the Office of Women's Health (RAW) from the Maternal and Child Health Bureau (RM) to the Immediate Office of the Administrator (RA).

Immediate Office of the Administrator (RA)

(1) Leads and directs programs and activities of the Agency and advises the Office of the Secretary of Health and Human Services on policy matters concerning them; (2) provides consultation and assistance to senior Agency officials and others on clinical and health professional issues; (3) serves as the Agency's focal point on efforts to strengthen the practice of public health as it pertains to the HRSA mission; (4) establishes and maintains verbal and written communications with health organizations in the public and private sectors to support the mission of HRSA; (5) coordinates the Agency's strategic, evaluation and research planning processes; (6) manages the legislative and communications programs for the Agency; (7) administers HRSA's equal opportunity and civil rights activities; (8) provides overall leadership, direction, coordination, and planning in the support of the Agency's special health programs; and (9) manages the health, wellness, and safety of women and girls with the support of the Office of Women's Health, through policy, programming and outreach education.

Office of Women's Health (RAW)

(1) Serves in a leadership capacity on women's health and sex/gender-specific issues and policy for HRSA senior managers and with other agencies in HHS; (2) coordinates and supports sex/gender-specific disease prevention and health promotion activities within HRSA and HHS; (3) serves as the HRSA liaison with other Federal and non-Federal individuals and organizations working on women's health and sex/gender-specific health related issues; (4) provides mentorship experiences for scholars and interns and encourages staff development opportunities; and (5) supports educational and information dissemination efforts on topics related to sex/gender-specific health issues.

Section RA-30, Delegations of Authority

All delegations and re-delegations of authority made to HRSA officials and employees of affected organizational components will continue in them or their successors pending further re-delegations, provided they are consistent with this reorganization.

This reorganization is effective upon date of signature.

Dated: October 7, 2011.
Mary K. Wakefield,
Administrator.

[FR Doc. 2011-27031 Filed 10-18-11; 8:45 am]

BILLING CODE 4165-15-P